DEPARTMENT OF HOUSING AND URBAN DEVELOPMENT

[Docket No. FR-5486-N-16]

Notice of Proposed Information Collection for Public Comment: Neighborhood Stabilization Program Tracking Study

AGENCY: Office of the Assistant Secretary for Policy Development and Research, HUD.

ACTION: Notice.

SUMMARY: The proposed information collection requirement described below will be submitted to the Office of Management and Budget (OMB) for review, as required by the Paperwork Reduction Act. The Department is soliciting public comments on the subject proposal.

DATES: Comment Due Date; September 6, 2011.

ADDRESSES: Interested persons are invited to submit comments regarding this proposal. Comments should refer to the proposal by name and/or OMB Control Number and should be sent electronically to Paul.A.Joice@hud.gov or in hard copy to: Paul Joice, Office of Policy Development and Research, Department of Housing and Urban Development, 451 7th Street, SW., Room 8120, Washington, DC 20410-6000. Please use “NSP PRA Comment” in the subject line of any e-mail.

FOR FURTHER INFORMATION CONTACT: Paul Joice at 202-402-4608 (this is not a toll-free number) or Paul.A.Joice@hud.gov, for copies of the proposed forms and other available documents. Please use “NSP PRA Comment” in the subject line of any e-mail.

SUPPLEMENTARY INFORMATION: The Department of Housing and Urban Development will submit the proposed extension of information collection to OMB for review, as required by the Paperwork Reduction Act of 1995 (44 U.S.C. Chapter 35, as amended). This Notice is soliciting comments from members of the public and affected agencies concerning the proposed collection of information to: (1) Evaluate whether the proposed collection of information is necessary for the proper performance of the functions of the agency, including whether the information will have practical utility; (2) evaluate the accuracy of the agency's estimate of the burden of the proposed collection of information; (3) enhance the quality, utility, and clarity of the information to be collected; and (4) minimize the burden of the collection of information on those who are to respond; including through the use of appropriate automated collection techniques or other forms of information technology, e.g., permitting electronic submission of responses.

This Notice also lists the following information:

Title of Proposal: Site Visit Protocols for Neighborhood Stabilization Program (NSP2) Evaluation.

OMB Control Number: Pending.

Description of the Need for the Information and Proposed Use: The U.S. Department of Housing and Urban Development (HUD) is conducting an important national study of the Neighborhood Stabilization Program (NSP), with a particular focus on the round of funding from the American Recovery and Reinvestment Act (ARRA), known as “NSP2.” This information collection will involve site visits and interviews of NSP2 grantees, in order to describe the process of implementing the NSP2 program and to identify the neighborhoods where NSP2 funding was spent, in order to evaluate its impact.

Agency Form Numbers: N/A.

Members of the Affected Public: Approximately 25 NSP2 grantees and 50 partner agencies will be part of the study. To select the grantees HUD will conduct brief reconnaissance telephone calls with up to 40 grantees to ensure that they have adequate data for evaluation. Staff of selected grantees will be asked to participate in more in-depth on-site interviews with HUD's contractor and to provide HUD's contractor with access to their records for tracking program activity. Reconnaissance phone calls will take up to an hour per grantee. On-site interviews will take approximately 2 hours per person and will be administered to approximately 4 staff per NSP2 grantee and 4 additional staff among partner agencies. Providing HUD's contractor with access to records will require approximately 2 hours from one person per grantee. Estimation of the total number of hours needed to prepare the information collection including number of respondents, frequency of response, and hours of response: The following chart details the respondent burden on a quarterly and annual basis:

| Number of entities | Responses per entity | Hours per response | Total hours
Reconnaissance telephone calls: NSP grantees | 40 | 1 | 1 | 40
Interviews: NSP grantees | 25 | 4 | 2 | 200
Interviews: Partner agencies | 50 | 4 | 2 | 400
Providing Access to Records | 25 | 1 | 2 | 50

Status of the proposed information collection: Pending OMB approval.

Authority: Section 3506 of the Paperwork Reduction Act of 1995, 44 U.S.C. Chapter 35, as amended.

Dated: June 27, 2011.
Raphael W. Bostic,
Assistant Secretary for Policy Development and Research.

[FR Doc. 2011-16772 Filed 7-1-11; 8:45 am]

BILLING CODE 4210-67-P